DEPARTMENT OF LABOR

Occupational Safety and Health Administration

[Docket No. OSHA-2011-0066]

Vertical Tandem Lifts (VTLs) for Marine Terminals; Extension of the Office of Management and Budget's (OMB) Approval of Information Collection (Paperwork) Requirements

AGENCY: Occupational Safety and Health Administration (OSHA), Labor.

ACTION: Request for public comments.

SUMMARY: OSHA solicits public comments concerning the proposal to extend the Office of Management and Budget's (OMB) approval of the information collection requirements specified in the Vertical Tandem Lifts (VTLs) for Marine Terminals.

DATES: Comments must be submitted (postmarked, sent, or received) by October 11, 2024.

ADDRESSES:

Electronically: You may submit comments and attachments electronically at https://www.regulations.gov, which is the Federal eRulemaking Portal. Follow the instructions online for submitting comments.

Docket: To read or download comments or other material in the docket, go to https://www.regulations.gov. Documents in the docket are listed in the https://www.regulations.gov index; however, some information (e.g., copyrighted material) is not publicly available to read or download through the websites. All submissions, including copyrighted material, are available for inspection through the OSHA Docket Office. Contact the OSHA Docket Office at (202) 693-2350 (TTY (877) 889-5627) for assistance in locating docket submissions.

Instructions: All submissions must include the agency name and OSHA docket number (OSHA-2011-0066) for the Information Collection Request (ICR). OSHA will place all comments, including any personal information, in the public docket, which may be made available online. Therefore, OSHA cautions interested parties about submitting personal information such as social security numbers and birthdates.

For further information on submitting comments, see the “Public Participation” heading in the section of this notice titled “SUPPLEMENTARY INFORMATION.”

FOR FURTHER INFORMATION CONTACT: Seleda Perryman, Directorate of Standards and Guidance, OSHA, U.S. Department of Labor; telephone (202) 693-2222.

SUPPLEMENTARY INFORMATION:

I. Background

The Department of Labor, as part of the continuing effort to reduce paperwork and respondent (i.e., employer) burden, conducts a preclearance consultation program to provide the public with an opportunity to comment on proposed and continuing information collection requirements in accordance with the Paperwork Reduction Act of 1995 (PRA) (44 U.S.C. 3506(c)(2)(A)). This program ensures that information is in the desired format, reporting burden (time and costs) is minimal, the collection instruments are clearly understood, and OSHA's estimate of the information collection burden is accurate. The Occupational Safety and Health Act of 1970 (OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of effort in obtaining information (29 U.S.C. 657).

The following sections describe who uses the information collected under each requirement, as well as how they use it. The purpose of these requirements is to provide workers with safe work practices when using VTLs.

Paragraph (a) of § 1917.71 requires that all intermodal containers are legibly and permanently marked with the weight of the container when empty ((a)(1)); the maximum weight the container is designated to carry in pounds ((a)(2)); and the maximum weight including the container ((a)(3)).

Additionally, loaded containers must display their gross weight plainly marked on the container in a way that it is visible to the crane operator or other hoisting equipment operator or signalman, or to every supervisor and foreman on the site and in charge of the operation ((b)(2)(i)), or supplied in the form of a cargo stowage plan or equivalent permanent record to the crane or other hoisting equipment operator and signalman, if any, and to every supervisor and foreman on the site and in charge of the operation ((b)(2)(ii)).

The labeling of intermodal containers with the weight of the container, the maximum weight of cargo that can be packed in the container, and their sum provides the crane operator or other hoisting equipment operator or signalman, or to every supervisor and foreman on the site and in charge of the operation with a minimum and maximum range under which a container can be safely lifted. Providing the gross weight, either marked on the container or supplied in the form of a cargo stowage plan or equivalent permanent record, ensures that the containers being lifted and cranes/derricks performing the lifting are not overloaded.

Paragraph (i)(8)(iv) of § 1917.71 requires employers to ensure that the interbox connectors used in VTLs has been certified by a competent authority authorized under § 1918.11 (for interbox connectors that are part of a vessel's gear) or § 1917.50 (for other interbox connectors). Paragraph (i)(8)(v) requires employers to make the certification available for inspection and that the certificate attests that the interbox connector meets the strength criteria specified in paragraph (i)(8)(iv) of the standard. Also, paragraph (i)(8)(vi) requires that each interbox connector be clearly and durably marked with its safe working load for lifting with and an identifying number or mark that will enable it to be associated with its test certificate. The certification is necessary to ensure that interbox connector-corner casting assemblies have adequate strength to ensure the safety of the lift. Marking of interbox connectors informs employers, workers, and OSHA that the interbox connectors have been certified.

Paragraph (j)(2) of § 1917.71 requires the employer to develop, implement, and maintain a written plan for transporting vertically connected containers in the terminal. The transport plan helps ensure the safety of terminal workers and thereby enhances productivity. Paragraph (k)(2) of § 1917.71 requires that the written transport plan include the safe work zone and procedures to ensure that workers are not in the zone when a VTL is in motion.

Written plans give employers, workers, and OSHA compliance officers assurance that VTLs are safe to use and provide the compliance officers with an efficient means to assess employer compliance with the standard.

II. Special Issues for Comment

OSHA has a particular interest in comments on the following issues:

• Whether the proposed information collection requirements are necessary for the proper performance of the agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information, and transmission techniques.

III. Proposed Actions

OSHA is requesting that OMB extend the approval of the information collection requirements contained in the Vertical Tandem Lifts (VTLs) for Marine Terminals. The agency is requesting an adjustment decrease in burden hours from 23,256 hours to 22,932 hours, a difference of 324 hours. This decrease is due to a reduction in the number of containers per establishment, from 2,950 to 2,906.

OSHA will summarize the comments submitted in response to this notice and will include this summary in the request to OMB to extend the approval of the information collection requirements.

Type of Review: Extension of a currently approved collection.

Title: Vertical Tandem Lifts (VTLs) for Marine Terminals.

OMB Control Number: 1218-0260.

Affected Public: Business or other for-profits.

Number of Respondents: 1,210.

Number of Responses: 75,243.

Frequency of Responses: On occasion.

Average Time per Response: Varies.

Estimated Total Burden Hours: 22,932.

Estimated Cost (Operation and Maintenance): $0.

IV. Public Participation—Submission of Comments on This Notice and Internet Access to Comments and Submissions

You may submit comments in response to this document as follows: (1) electronically at https://www.regulations.gov, which is the Federal eRulemaking Portal; or (2) by facsimile (fax), if your comments, including attachments, are not longer than 10 pages you may fax them to the OSHA Docket Office at (202) 693-1648. All comments, attachments, and other material must identify the agency name and the OSHA docket number for the ICR (Docket No. OSHA-2011-0066). You may supplement electronic submission by uploading document files electronically.

Comments and submissions are posted without change at https://www.regulations.gov. Therefore, OSHA cautions commenters about submitting personal information such as social security numbers and dates of birth. Although all submissions are listed in the https://www.regulations.gov index, some information (e.g., copyrighted material) is not publicly available to read or download from this website. All submission, including copyrighted material, are available for inspection and copying at the OSHA Docket Office. Information on using the https://www.regulations.gov website to submit comments and access the docket is available at the website's “User Tips” link.

Contact the OSHA Docket Office at (202) 693-2350, (TTY (877) 889-5627) for information about materials not available from the website, and for assistance in using the internet to locate docket submissions.

V. Authority and Signature

James S. Frederick, Deputy Assistant Secretary of Labor for Occupational Safety and Health, directed the preparation of this notice. The authority for this notice is the Paperwork Reduction Act of 1995 (44 U.S.C. 3506 et seq.) and Secretary of Labor's Order No. 8-2020 (85 FR 58393).

Signed at Washington, DC, on July 23, 2024.
James S. Frederick,
Deputy Assistant Secretary of Labor for Occupational Safety and Health.

[FR Doc. 2024-17886 Filed 8-9-24; 8:45 am]

BILLING CODE 4510-26-P